ENVIRONMENTAL PROTECTION AGENCY

[ER-FRL-9033-7]

Environmental Impact Statements; Notice of Availability

Responsible Agency: Office of Federal Activities, General Information (202) 564-7146 or http://www.epa.gov/nepa.

Weekly receipt of Environmental Impact Statements

Filed 06/05/2017 Through 06/09/2017

Pursuant to 40 CFR 1506.9.

Notice: Section 309(a) of the Clean Air Act requires that EPA make public its comments on EISs issued by other Federal agencies. EPA's comment letters on EISs are available at: http://www.epa.gov/compliance/nepa/eisdata.html.

EIS No. 20170098, Final, HUD, CA, Adoption—Transbay Terminal/Caltrain Downtown Extension/Redevelopment Project, Review Period Ends: 07/19/2017, Contact: Stanley W. Toal 415-489-6668.

The Housing and Urban Development/the City and County of San Francisco Mayor's Office of Housing and Community Development (MOHCD, has adopted the Federal Transit Administration's FEIS #20040148, filed 03/26/2004 with the EPA. HUD/MOHCD was not a cooperating agency for the FEIS. Therefore, recirculation of the document is necessary under Section 1506.3(b) of the CEQ Regulations.

EIS No. 20170099, Final, NIGC, WA, Adoption—Cowlitz Indian Tribe Trust Acquisition and Casino Project Take 151.87 Acres into Federal Trust and Issuing of Reservation Proclamation and Approving the Gaming Development and Management Contract, Contact: Esther Dittler 202-632-7003.

The National Indian Gaming Commission has adopted the U.S. Department of the Interior's Bureau of Indian Affairs FEIS #20080212, filed with EPA on 05/22/2008. NIGC was a cooperating agency with the project. Therefore, recirculation of the document is not necessary under Section 1506.3 of the CEQ Regulations.

EIS No. 20170100, Draft Supplement, USACE, CA, Folsom Dam Raise Project, Comment Period Ends: 07/31/2017, Contact: Victoria Hermanson 916-557-7330.

EIS No. 20170101, Final, HUD, NJ, Rebuild by Design Hudson River: Resist, Delay, Store, Discharge Project, Review Period Ends: 07/17/2017, Contact: Dennis Reinknecht 609-984-0556.

The New Jersey Departments of Environmental Protection and Community Affairs is the lead agency for the above project.

EIS No. 20170102, Draft, TVA, KY, Shawnee Fossil Plants Coal Combustion Residual Management, Comment Period Ends: 07/31/2017, Contact: Ashley Pilakowski 865-632-2256.

EIS No. 20170103, Draft Supplement, USFS, CO, Enlargement of Monument No. 1 and Hunter Reservoirs, Comment Period Ends: 07/31/2017, Contact: Clay Speas 970-874-6650.

Dated: June 13, 2017.
Dawn Roberts,
Management Analyst, NEPA Compliance Division, Office of Federal Activities.

[FR Doc. 2017-12530 Filed 6-15-17; 8:45 am]

BILLING CODE 6560-50-P